DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Board of Directors on Thursday, June 7, 2001. The meeting begins at 1:00 p.m. The letter designations that follow each item mean the following: (I) is an information item; (A) is an action item; (D) is a discussion item. The General Session includes the following items: (1) Welcome & ITS America Antitrust Policy and Conflict of Interest Statements (I); (2) Review & Acceptance of Election Results: Installation of New Board Members (A); (3) Presentation of Nominees for Officers of the Board (I); (4) Acceptance of Other Nominations for Officers and Directors of the 2000—2001 Board of Directors (A); * * * Transfer of Gavel from outgoing chairman to new chairman * * * (5) Introductions & Recognition of Outgoing Board Members & Officers (I); (6) Review & Approval of Previous Board Meeting Unconfirmed Minutes (A); (7) New Appointments (I/A); (8) Federal ITS Initiatives Report (I/D; (9) Coordinating Council Report (I); (10) State Chapters Council Report (I/A); (11) International Affairs Council Report (I); (12) Business Group Report (I/D); (13) President's Report (I); (14) Report of the Audit Committee (I); (15) Board & Executive Committee Meeting Schedules; (16) Other business; (17) Adjournment.

ITS AMERICA provides a forum for national discussion and recommendations on ITS activities including programs, research needs, strategic planning, standards, international liaison, and priorities.

The charter for the utilization of ITS AMERICA establishes this organization as an advisory committee under the Federal Advisory Committee Act (FACA) 5 USC app. 2, when it provides advice or recommendations to DOT officials on ITS policies and programs. (56 FR 9400, March 6, 1991).

DATES: The Board of Directors of ITS AMERICA will meet on Thursday, June 7, 2001 from 1 p.m.-5 p.m. Room TBA.

ADDRESSES: The Fountainebleau Hilton Resort, 4441 Collins Ave., Miami Beach, Florida, 33140. Phone: (305) 538-2000; Fax (305) 673-5351.

FOR FURTHER INFORMATION CONTACT: Materials associated with this meeting may be examined at the offices of ITS AMERICA, 400 Virginia Avenue SW, Suite 800, Washington, D.C. 20024. Persons needing further information or who request to speak at this meeting should contact Debbie M. Busch at ITS AMERICA by telephone at (202) 484-2904 or by FAX at (202) 484-3483. The DOT contact is Kristy Frizzell, FHWA, HOIT, Washington, D.C. 20590, (202) 366-9536. Office hours are from 8:30 a.m. to 5 p.m., e.t., Monday through Friday, except for legal holidays. (23 U.S.C. 315; 49 CFR 1.48)

Issued on: May 3, 2001.
Jeffrey Paniati,
Program Manager, ITS Joint Program Office.

[FR Doc. 01-11571 Filed 5-7-01; 8:45 am]

BILLING CODE 4910-22-P